EXPORT-IMPORT BANK OF THE UNITED STATES

Sunshine Act Meeting

ACTION: Notice of a Partially Open Meeting of the Board of Directors of the Export-Import Bank of the United States.

Time and Place: Thursday, December 1, 2011 at 9:30 a.m. The meeting will be held at Ex-Im Bank in Room 1143, 811 Vermont Avenue NW, Washington, DC 20571.

Open Agenda Item: Item No. 1: Ex-Im Bank Advisory Committee for 2011.

Public Participation: The meeting will be open to public observation for Item No. 1 only.

FOR FURTHER INFORMATION CONTACT: For further information, contact: Office of the Secretary, 811 Vermont Avenue NW, Washington, DC 20571 (Number (202) 565-3336).

Lisa V. Terry,
Assistant General Counsel (Acting).

[FR Doc. 2011-30590 Filed 11-28-11; 8:45 am]

BILLING CODE 6690-01-M